SECURITIES AND EXCHANGE COMMISSION

[Release No. 34-43380; File No. 265-22]

Advisory Commission on Market Information

AGENCY: Securities and Exchange Commission.

ACTION: Supplemental notice.

SUMMARY: This notice supplements the Securities and Exchange Commission's notice of intent to establish the Securities and Exchange Commission Advisory Committee on Market Information (“Committee”), and intent to hold the first Committee meeting on October 10, 2000 (65 FR 58135).

ADDRESSES: Written comments should be submitted in triplicate and should refer to File No. 265-22. Comments should be submitted to Jonathan G. Katz, Secretary, Securities and Exchange Commission, 450 Fifth Street, N.W., Washington, D.C. 20549-0609.

FOR FURTHER INFORMATION CONTACT: Anitra Cassas, Attorney, Division of Market Regulation, at 202-942-0089; Securities and Exchange Commission, 450 Fifth Street, N.W., Washington, D.C. 20549-1001.

SUPPLEMENTARY INFORMATION: On September 20, 2000, the Commission issued a notice that the first meeting of the Securities and Exchange Commission Advisory Committee on Market Information is to be held on October 10, 2000, in the William O. Douglas Room at the Commission's main offices, 450 Fifth Street, N.W., Washington, DC, beginning at 1 p.m. (Securities Exchange Act Release No. 43313, September 20, 2000). The meeting will be open to the public, and the public is invited to submit written comments to the Committee. The notice was published in the Federal Register on September 27, 2000, less than 15 days prior to the first meeting as required by 41 CFR 101-61015. To accommodate all of the committee members' schedules and travel arrangements, however, the Commission finds good cause to continue to hold the meeting on October 10, 2000.

Dated: September 28, 2000.
Jonathan G. Katz,
Secretary.

[FR Doc. 00-25424 Filed 10-3-00; 8:45 am]

BILLING CODE 8010-01-M